DEPARTMENT OF ENERGY

Federal Energy Regulatory Commission

Combined Notice of Filings #2

Take notice that the Commission received the following electric rate filings:

Docket Numbers: ER12-1021-000.

Applicants: Midwest Independent Transmission System Operator, Inc.

Description: Request of Midwest Independent Transmission System Operator, Inc.

Filed Date: 8/23/12.

Accession Number: 20120823-5149.

Comments Due: 5 p.m. ET 9/13/12.

Docket Numbers: ER12-1161-002.

Applicants: Fibrominn LLC.

Description: FIBRO Compliance Filing of Revised Tariff and Request for Category 1 to be effective 8/29/2012.

Filed Date: 8/29/12.

Accession Number: 20120829-5073.

Comments Due: 5 p.m. ET 9/19/12.

Docket Numbers: ER12-2240-001.

Applicants: ALLETE, Inc.

Description: Revised MBR Tariff Filing to be effective 7/14/2012.

Filed Date: 8/29/12.

Accession Number: 20120829-5078.

Comments Due: 5 p.m. ET 9/19/12.

Docket Numbers: ER12-2374-000.

Applicants: Tall Bear Group, LLC.

Description: Supplemental Information of Tall Bear Group, LLC.

Filed Date: 8/21/12.

Accession Number: 20120821-5032.

Comments Due: 5 p.m. ET 9/7/12.

Docket Numbers: ER12-2540-000.

Applicants: Arizona Public Service Company.

Description: OMR Agreement between Electrical District 3 and Arizona Public Service Company to be effective 11/1/2012.

Filed Date: 8/29/12.

Accession Number: 20120829-5063.

Comments Due: 5 p.m. ET 9/19/12.

Docket Numbers: ER12-2541-000.

Applicants: Wolverine Power Supply Cooperative, Inc.

Description: Refile to be effective 8/29/2012.

Filed Date: 8/29/12.

Accession Number: 20120829-5072.

Comments Due: 5 p.m. ET 9/19/12.

Docket Numbers: ER12-2542-000.

Applicants: Prairie Rose Wind, LLC.

Description: Prairie Rose Wind, LLC submits tariff filing per 35.12: Prairie Rose Wind, LLC MBR Tariff to be effective 10/1/2012.

Filed Date: 8/29/12.

Accession Number: 20120829-5144.

Comments Due: 5 p.m. ET 9/19/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 29, 2012.
Nathaniel J. Davis, Sr.,
Deputy Secretary.

[FR Doc. 2012-21776 Filed 9-4-12; 8:45 am]

BILLING CODE 6717-01-P